SMALL BUSINESS ADMINISTRATION

Federal Register Meeting Notice; Webinar About Regional Innovation Clusters RFP

AGENCY: U.S. Small Business Administration (SBA)

ACTION: Notice of open webinar meeting to discuss Regional Innovation Clusters (RIC) Request for Proposals (RFP) No. SBAHQ-10-R-0021.

SUMMARY: The SBA is issuing this notice to announce the date of a webinar it is hosting to answer questions from potential Offerors about the Regional Innovation Clusters RFP. For more information please go to http://www.sba.gov/clusters/index.html. The RFP may be found on http://www.fedbizopps.gov.

Logistical Information: The webinar will be held on Thursday, July 15, 2010. For details, please visit http://www.sba.gov/clusters/index.html.

SUPPLEMENTARY INFORMATION: The Small Business Administration (SBA) has issued a Request for Proposals (RFP) to solicit proposals from existing regional innovation clusters to provide business training, counseling, mentoring, commercialization and technology transfer services, and other services that support the growth and development of small businesses in the cluster area and industries. SBA intends to make multiple fixed-price contract awards, each with a one-year base term with an option for an additional year. Annual proposal costs should not exceed $600,000 and all contracts will be subject to applicable contract cost principles and procedures (Federal Acquisition Regulation Subpart 31). SBA will select regional innovation clusters in communities across the country that meet its specified criteria. Offerors will be asked to demonstrate that they have partnerships, technical capacity, and local assets to support their existing regional cluster, as well as experience fostering small business development and growth opportunities. SBA will evaluate offers based on a number of criteria, including the impact the services will have on the region's economic growth, creation of sustainable jobs and the opportunities the regional innovation cluster will provide for small businesses. The RFP was posted on http://www.fedbizopps.gov on about July 8, 2010. All responsible sources may submit an offer that will be considered by the agency. Offerors need to be registered in the Central Contractor Registration database, which can be found at http://www.ccr.gov, and have a DUNS Number established by Dun & Bradstreet (see https://fedgov.dnb.com)

Meaghan Burdick,
Deputy Chief of Staff.

[FR Doc. 2010-17070 Filed 7-13-10; 8:45 am]

BILLING CODE;P